ENVIRONMENTAL PROTECTION AGENCY

[FRL-6971-9]

Proposed Settlement, Clean Air Act Citizen Suit

AGENCY: Environmental Protection Agency.

ACTION: Notice of proposed consent decree; request for public comment.

SUMMARY: In accordance with section 113(g) of the Clean Air Act, as amended (“Act”), 42 U.S.C. 7413(g), notice is hereby given of a proposed consent decree which was lodged with the United States District Court for the Northern District of California by the United States Environmental Protection Agency (“EPA”) on April 5, 2001 to address a lawsuit filed by the Bayview Hunters Point Community Advocates, Communities for a Better Environment, Latino Issues Forum, Sierra Club, Transportation Solutions Defense and Education Fund, Urban Habitat Program, a Project of the Tides Center, and Our Children's Earth Foundation. This lawsuit, which was filed pursuant to section 304(a) of the Act, 42 U.S.C. 7604(a), addresses EPA's alleged failure to meet a mandatory deadline under section 110(k) of the Act, 42 U.S.C. 7410(k), to take final action to approve or disapprove the 1999 San Francisco Bay Area Ozone Attainment Plan. Bayview Hunters Point Community Advocates et. al. v. EPA, Civil No. C-01-0050 THE (N.D. Cal.).

DATES: Written comments on the proposed consent decree must be received by May 31, 2001.

ADDRESSES: Written comments should be sent to Jan Taradash, Office of Regional Counsel, U.S. Environmental Protection Agency Region 9, 75 Hawthorne Street, San Francisco, CA 94105. Copies of the proposed consent decree are available from Jan Taber, (415) 744-1341.

SUPPLEMENTARY INFORMATION: The Clean Air Act requires EPA to take action to approve or disapprove a State implementation plan revision within 12 months of a determination by the Administrator that such revision is complete. See section 110(k)(1)-(4), 42 U.S.C. 7410(k)(1)-(4). On August 13, 1999, the California Air Resources Board submitted to EPA the 1999 San Francisco Bay Area Ozone Attainment Plan (“1999 Plan”) as a proposed revision to the California State Implementation Plan. EPA found the 1999 Plan to be complete pursuant to section 110(k)(1)(B), 42 U.S.C. 7410(k)(1)(B), on October 28, 1999. On March 30, 2001, EPA published a proposed rule on the plan. 66 FR 17379. The proposed consent decree provides that the Administrator or her delegatee shall sign no later than August 28, 2001, a notice for publication in the Federal Register taking final action pursuant to section 110(k) of the Act, 42 U.S.C. 7410(k), and shall submit the notice by September 4, 2001, to the Office of the Federal Register for publication.

For a period of thirty (30) days following the date of publication of this notice, EPA will receive written comments relating to the proposed consent decree from persons who were not named as parties to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.
Dated: April 17, 2001.
Anna L. Wolgast,
Acting General Counsel.

[FR Doc. 01-10808 Filed 4-30-01; 8:45 am]

BILLING CODE 6560-50-P